DEPARTMENT OF TRANSPORTATION

Coast Guard

33 CFR Part 165

[COTP Western Alaska 00-001]

RIN 2115-AA97

Safety Zone; Kachemak Bay, Alaska; Correction

AGENCY: Coast Guard, DOT.

ACTION: Temporary final rule; correction of effective dates.

SUMMARY: This document corrects the effective dates of temporary final rule (COTP Western Alaska 00-001) which published April 28, 2000. The temporary final rule establishes a temporary 200-yard radius safety zone around the M/V SWAN to ensure the safe and timely anchoring, loading, and departure of vessels and a barge operating in Kachemak Bay.

DATES: As of May 4, 2000, the effective dates of the temporary rule published at 65 FR 24874 are corrected to 12:01 a.m. on May 11, 2000 until 11:59 p.m. on May 13, 2000. The correction to § 165.T17-00-001 is effective from May 11, 2000 until May 13, 2000.

FOR FURTHER INFORMATION CONTACT: Lieutenant Commander Rick Rodriguez, Chief of Port Operations, USCG Marine Safety Office, Anchorage, at (907) 271-6724.

SUPPLEMENTARY INFORMATION:

Background

On April 28, 2000, the Coast Guard published a temporary final rule entitled Safety Zone; Kachemak Bay, Alaska, in the Federal Register (65 FR 24874) to be effective from 12:01 a.m. on May 4, 2000, until 11:59 p.m. on May 9, 2000. The Coast Guard has been notified that the estimated time of arrival of the M/V SWAN has been changed to May 10, 2000.

Need for Modification

As published, the effective date of the temporary final rule is now incorrect and therefore needs to be changed to reflect the new arrival time of M/V SWAN.

Modification of Publication

Accordingly, the publication on April 28, 2000 of the temporary final rule (COTP Western Alaska 00-001), which is the subject of FR Doc. 00-10607, is corrected as follows:

1. On page 24874, in the second column, in the DATES section, lines 2 and 3, correct the dates “May 4, 2000”and “May 9, 2000” to read “May 11, 2000” and “May 13, 2000” respectively.

§ 165.T17-00-001 [Corrected]

2. On page 24875, in the second column, in § 165.T17-00-001, paragraph (b), lines 2 and 3, correct the dates “May 4, 2000” and “May 9, 2000” to read “May 11, 2000” and “May 13, 2000” respectively.

Dated: May 2, 2000.
R. Rodriguez,
LCDR, U.S. Coast Guard, COTP, Western Alaska, Acting.

[FR Doc. 00-11554 Filed 5-4-00; 3:15 pm]

BILLING CODE 4910-15-P